OFFICE OF MANAGEMENT AND BUDGET

Agency Information Collection Under Review by the Office of Management and Budget

AGENCY: Office of Management and Budget, Executive Office of the President.

ACTION: Notice of submission for OMB review; comment request.

SUMMARY: The Office of Management and Budget (OMB) has submitted the information collection listed as Appendix C at the end of this notice to the Office of Information and Regulatory Affairs (OIRA), OMB, for review under provisions of the Paperwork Reduction Act of 1995 (Pub. L. 104-13). This new form will be required by OMB Circular A-21, “Cost Principles for Educational Institutions,” for the submission of facilities and administrative rate proposals by educational institutions. On September 10, 1997, (62 FR 47721) OMB proposed the use of a standard format for submitting of facilities and administrative rate proposals by educational institutions. OMB received 35 comments from Federal agencies, universities and professional organizations, all of whom favored the development of such a form. Based upon this information, OMB issued a Federal Register notice on August 12, 1999, (64 FR 44062) which proposed to revise Circular A-21 to incorporate a new form. OMB received 40 comments from Federal agencies, universities and professional organizations. Most commenters agreed with the concept of a standard format that would streamline the rate proposal submission process. In addition, many commenters had questions and requested clarifications regarding data to be included in the form or the format of the form. Changes were made to the form as appropriate. The comments and OMB responses are summarized in the Comments and Responses section.

Once this new form receives clearance under the Paperwork Reduction Act, OMB will issue a final revision to incorporate the form in Circular A-21.

DATES: Submit comments on or before June 8, 2000.

ADDRESSES: Address comments to Ed Springer, Desk Officer, Office of Information and Regulatory Affairs (OIRA), OMB, 725 17th Street NW, Room 10236, New Executive Office Building, Washington, DC 20503. E-mail comments may be submitted to edward.springer@omb.eop.gov. Please include the full body of the comments in the text of the message and not as an attachment. Please include the name, title, organization, postal address, and E-mail address in the text of the message. (Comments should also be addressed to the Office of Federal Financial Management at the address listed below.)

FOR FURTHER INFORMATION CONTACT: Gilbert Tran, Office of Federal Financial Management, Office of Management and Budget, (202) 395-3993 (e-mail Hai _M._Tran@omb.eop.gov).

SUPPLEMENTARY INFORMATION:

OMB Control No.: 0348-XXXX.

Title: Standard Form for Facilities and Administrative Rate Proposal.

Form No: N/A.

Frequency: On occasion.

Type of Review: New collection.

Respondents: Large universities.

Number of Responses: 282.

Estimated Time Per Response: 4 hours.

Needs and Uses: This provides a standardized format for the submission of facilities and administrative (F&A) rate proposals that would assist educational institutions in completing their F&A rate proposals more efficiently, and help the cognizant agency review each proposal on a more consistent basis. It will also facilitate the Federal government's effort to collect better information regarding educational institutions' F&A costs that could be useful in explaining variations in F&A rates among institutions. Copies of the above information collection proposal can be obtained by calling or writing Gilbert Tran at the address listed above.

Comments and Responses

General

Comment: Some commenters suggested that the estimated time of four hours needed to complete the standard format is gravely underestimated. They commented that the process of collecting data for the preparation of an institution's rate proposal and completing the standard format can take several months.

Response: OMB agrees that the process of collecting data and preparing the facilities and administrative rate proposal in accordance with Circular A-21 can take several months to complete depending on the size of the universities and the complexity of its proposals. The estimated four hours is only for the filling of prepared data in the standard format. Only three commenters indicated that the completion of the standard format will greatly increase grantees' workload. In addition, in consideration of the comments that cited some data requests as overly cumbersome and difficult to collect, OMB has reexamined all proposed data requests, discussed them with the Federal agencies and, consequently, deleted much of the requested data in the final version.

To further streamline and simplify the proposal submission process, OMB will work with the Federal agencies to encourage the submission of the standard format electronically.

Comment: Most commenters applauded the concept of a standard format that would streamline the rate proposal submission process. However, they requested that the implementation date be delayed to allow them to adjust to the new format requirements.

Response: OMB agrees. The implementation date is changed to apply to facilities and administrative proposals submitted on or after July 1, 2001 (instead of July 1, 2000). Earlier implementation of the revision is permitted and encouraged.

Comment: The revision should explicitly state that universities and cognizant agencies could agree to eliminate certain elements from the standard format, when applicable, particularly when a university uses the standard 24 percent to claim administrative costs, as allowed in section G.9 of Circular A-21, “Alternative method for administrative costs.”

Response: OMB agreed. The final revision allows the cognizant agencies to grant exceptions, on an institution-by-institution basis, from all or portions of Part II of the standard format. For example, when a university uses the standard 24 percent to claim administrative costs as allowed in section G.9 of Circular A-21, the cognizant agency may waive all the requirements for detailed data in the administrative cost pools (i.e., general administration, departmental administration and sponsored project administration). However, for consistency in data collection and reporting, information in Part I should not be waived (unless the information is not applicable to a particular institution).

Comment: Several commenters raised a concern about having to submit two standard format proposals in one fiscal year when they negotiate rates on a “fixed with carry-forward” basis. They do not see the need to submit a standard format proposal when the proposal is used only to determine the carry-forward amount.

Response: When an institution is required to submit a historical/incurred cost proposal solely to determine a carry-forward amount, the cognizant agency may waive all or part of the requirements to submit the standard format proposal as required in G.12 of Circular A-21.

Part I, Schedule A

Comment: Some commenters requested clarification of the information related to students, faculty and staff population in Part I, Schedule A, item d of the standard format. Does the population count include all affiliate organizations associated with the institution?

Response: The students, faculty and staff population information requested in Part I, Schedule A of the standard format should be based on full-time equivalents (FTE) for the institution only.

Comment: Several commenters suggested that the breakout of salaries and wages (and fringe benefits) by professional/professorial and other labor (as required in Part I, Schedule A, item h; and, Part II, “Rate Proposal Summary by Major Function,” of the standard format) is not always maintained at the aggregate level by universities and may require significant effort to compute.

Response: OMB agreed that the requested data may not be readily available on the aggregate level at many universities. Therefore, this requested data is removed from the standard format in Part I (Schedule A, item h) and Part II, “Rate Proposal Summary by Major Function,” item 3.(d) of the standard format. In addition, this information is usually available on a department-by-department basis with the departmental administration calculation schedules.

Comment: The breakout by salaries classification (i.e., professorial/professional and other labor) by major functions, as required in item h of Part I of the standard format, is difficult to accumulate and would require significant time and effort.

Response: This breakout requirement is removed. Item h now only requires the modified total direct costs for each major function by salaries and wages/fringes, and non-labor costs.

Comment: In item i of Part I, Schedule A of the standard format, the schedule seems to require information only on the allocation percentage of overhead pools to direct functions. Should cross-allocation percentage to other overhead pools be included? If cross allocations are excluded, the “total” column should be eliminated because the total percentage will not be 100 percent. Alternatively, another column (titled “Other”) should be added to account for all cross allocations.

Response: For simplicity, cross allocation of an overhead pool to another overhead pool (e.g., allocation of interest expenses to buildings or equipment) is excluded from this schedule. The schedule will show only the allocation of F&A cost pools to major direct functions for which amounts should be readily available from the step-down allocation schedule. This “total” column is, therefore, eliminated. The “Other” column is used to display overhead allocation to other major institutional functions for which F&A rates are computed (e.g., primate centers and applied physics laboratories).

Comment: In item i of Part I, Schedule A of the standard format, what should be included in the “other” column?

Response: The “other” column in item i of Part I of the standard format should reflect the percentage of the cost pool allocated to major functions (other than Instruction, Organized Research and OSA) for which rates are developed for billing purposes such as primate centers or applied physics laboratories.

Part I, Schedule B

Comment: What is the definition of the term “base year” used in Part I, Schedule B of the standard format? Does it refer to: (a) only historical (or incurred) cost financial information or (b) both historical and projected cost information related to an F&A rate proposal submission?

Response: The term “base year” refers to only historical (or incurred) cost data which is based on an institution's financial statements. To clarify this matter, the “base (or data) year” phrase at the beginning of Part I, Schedule B of the standard format has been changed to “Historical Base Year.”

Comment: What should be included in “Land Improvements” line in Part I, Schedule B of the standard format?

Response: Under this title, the universities should report the distribution of “land improvements” costs to the universities' major functions and the computed percentage point for the overall F&A rates. “Land improvements” costs are defined in Circular A-21, section F.2.(b).4, as “depreciation or use allowances on certain capital improvements to land, such as paved parking areas, fences, sidewalks, and the like, not included in the cost of buildings.”

Comment: Schedule B of Part I of the standard format should include a line for the utility cost adjustment of 1.3 percentage points, as allowed in section F.4.c of Circular A-21 for certain universities.

Response: OMB agreed. A line is added in schedule B of Part I of the standard format, under the “Operation & Maintenance” item to allow the applicable universities to report the utility cost adjustment in order to reflect all the rate components proposed in the F&A proposal.

Comment: What should be included in the “Other” line under the “Modified Total Direct Cost and F&A Rates” of Part I, Schedule B of the standard format?

Response: The “Other” line under the “Modified Total Direct Cost and F&A Rates” section of the standard format is used when a special rate (other than On-Campus or Off-Campus) is developed for any major functions included in the F&A proposal. Examples of special rates are research vessel rates and overseas training rates.

Comment: Some commenters suggested combining the categories of “Research Training Awards,” “Other Awards,” and “Non-Federal Sources” under the “Composition of Rate Base” in Part I of Schedule B of the standard format into one category called “Other Awards (not based on negotiated rates).” They suggested that the requested breakout is not necessary for the F&A proposal review.

Response: OMB disagreed. The breakout for the composition of rate base is necessary in two ways. First, the Federal Government wants to track the percentage of awards that are not fully reimbursed at the negotiated rates by source of funding and by types of awards. Secondly, the breakout is important to verify the reasonableness of space cost allocation to benefitting activities.

Comment: Where is the cost sharing amount reported under the “Composition of Rate Base” in Part I, Schedule B of the standard format?

Response: The amount of cost sharing, representing the costs on research projects that are borne by the universities, is reported under the “Organized Research” column on the “Non-Federal Sources” line item.

Comment: Under the “Miscellaneous Statistics” section of Part I, Schedule B of the standard format, data related to facilities' finance costs ( “percent of ASF Financed”) should not be required if the university does not claim interest expenses on the F&A cost proposal (as some public universities do not). In addition, this information should only be requested for buildings that are more than 50 percent dedicated to research activities.

Response: OMB agreed that this information is not necessary when the university does not claim any interest costs for its facilities on its F&A cost proposal. The note (1) is changed to allow such exemption. However, for comparative analysis, data must be collected for all buildings regardless of their portion dedicated to research activities. This information is helpful in explaining the cost of research facilities and any increase of F&A rates over a period of time.

Part II—Standard Documentation Requirements

Comment: Item 1 in the General Information section of Part II of the standard format contains the phrase “financial statements including any affiliated organizations.” What is the meaning of affiliated organizations and why is this data needed?

Response: Many large institutions provide administrative services to various units within their corporate structure. A school, for example, may furnish certain administrative services to an “affiliated” hospital. The school's financial statements would probably exclude these costs and the hospital's financial statements would include these costs. In this case, a review of consolidated financial statements, which include the affiliated unit, will be needed to support (i) the total cost of the shared services and (ii) the assignment of costs on the financial statements of the school and the hospital. The affiliated organizations exclude non-monetary relationships (e.g., teaching rotation for medical students).

Comment: Under item 2 of the General Information section of the standard format, what does OMB mean by “relevant detail supporting the financial statement?” Does “detail” include all journal entries?

Response: In preparing an F&A proposal, a university is expected to start with its audited financial statements, prepared under generally accepted accounting principles (GAAP), and reclassify the accumulated costs into direct functions and cost pools as defined in Circular A-21. A reconciliation that includes all major reclassifications and adjustments must exist between these two documents to explain the differences. For example, all administrative costs are reported under “Institutional Support” on the university's financial statements. These costs could be reclassified to the general administrative, departmental administrative and sponsored project administrative cost pools for A-21 purposes. This provision requires that the university report the reclassified amounts along with a note to explain the nature of the reclassification. Detailed journal entries are not necessary for this request. In the final revision, the word “detail” is replaced with the word “data.”

Comment: Several commenters indicated that the organized research base breakdown by college or school into four categories: (a) Federal awards receiving F&A cost based on the negotiated rate agreement, (b) Federal awards receiving less than the negotiated rates, (c) non-Federal awards, and (d) cost sharing (as requested in Part II, “General Information,” item 5) is not readily available and would require extensive effort to produce. Some suggested that the information, in a summary level, is already available in Part I, Schedule B, under the “Composition of Rate Base” section of the standard format.

Response: In light of the possible excessive effort to produce the level of detail required for this request, OMB deleted this data requirement. OMB also agreed that similar data, in a summary level, is available in Part I, schedule B, “Composition of Rate Base” of the standard format.

Comment: Some commenters suggested that the requirement for a statement concerning the physical inventory requirement (Part II, “General Information,” item 9.d of the standard format) be deleted because this requirement duplicates those required under section J.12.e, “Depreciation and use allowances,” of the Circular.

Response: OMB agreed. The proposed statement of assurance regarding the physical inventory for equipment is removed in the final revision. Section J.12.e of Circular A-21 requires that “charges for use allowances or depreciation must be supported by adequate property records, and physical inventories must be taken at least once every two years to ensure that the assets exist and are usable.” By completing the “Certificate of F&A Costs,” as required in Section K.2.b of Circular A-21, the university certifies that it complies with the requirement of Section J.12.e of Circular A-21 for a biannual equipment physical inventory.

Comment: Some commenters suggested that the assurance statements regarding the compensation limits (Part II, “General Information,” item 9.e of the standard format) be deleted because such assurance is already included in the Certification of F&A costs (Part II, “General Information,” item 9.a of the standard format). If required, can the university include such an assurance statement with other assurance statements required under this section?

Response: The Certification of F&A costs, as required by Section K. of the Circular, does not currently provide any assurance regarding the compensation limits, established under separate program statutes. Such assurances are necessary to ascertain that costs charged against Federal programs do not exceed limits established by program statutes. The assurance statement regarding compensation limits can be (1) added to the Certification of F&A costs, (2) issued as a separate statement, or (3) combined with other assurance statements required by the Circular (e.g., lobbying certification).

Comment: Some commenters suggested that the reference to “voluntary cost sharing” in Part II, “Rate Proposal Summary By Major Function,” item 3.(a) of the standard format be deleted until the current debate on the reporting requirements for voluntary cost sharing is finalized.

Response: OMB agreed. The reference to “voluntary” cost sharing is deleted. The breakout between mandatory and voluntary cost sharing is therefore not required. Only the total cost sharing amount, as it is computed and reported on the institution's F&A rate proposal, is required for Schedule B of Part I, “Miscellaneous Statistics,” and item 3.(a) of Part II, “Rate Proposal Summary” of the standard format.

Comment: Regarding the space survey required in Part II of the standard format, does it cover all buildings at the university or just the research buildings?

Response: The space survey should include all buildings at the university. An university's total square footage information by major functions is necessary to allocate the space related costs such as operation and maintenance, building and equipment depreciation (or use allowances), and interest costs.

Comment: In Part II of the standard format, under the “Operation and Maintenance,” “General Administrative,” “Departmental Administration,” and “Sponsored Projects Administration” sections, OMB should delete the requirement for a breakout of total costs by labor and non-labor costs. Some commenters questioned the usefulness of this requirement for the cognizant agency's review, particularly when the administrative rates are capped at 26 percent.

Response: The requirement for breakout of total costs by labor and non-labor costs for the “General Administrative” and “Sponsored Projects Administration” is deleted; only total cost amounts are required for these two cost pools. However, this breakout is necessary for the review of the “Operation and Maintenance” (e.g., analysis of various utility costs and maintenance project costs) and the “Departmental Administration” cost pools (e.g., analysis of the direct charge equivalent computation).

Issued in Washington, DC, April 28, 2000.
Joshua Gotbaum,
Executive Associate Director and Controller.

OMB proposes to add the following section and Appendix to Circular A-21.

1. Add Section G.12 to read as follows:

12. Standard Format for Submission. For facilities and administrative (F&A) rate proposals submitted on or after July 1, 2001, educational institutions shall use the standard format, shown in Appendix C, to submit their F&A rate proposal to the cognizant agency. The cognizant agency may, on an institution-by-institution basis, grant exceptions from all or portions of Part II of the standard format requirement. This requirement does not apply to educational institutions which use the simplified method for calculating F&A rates, as described in Section H.

2. Add Appendix C (shown below):

Appendix C

OMB Circular A-21 Documentation Requirements for Facilities and Administrative (F&A) Rate Proposals Claiming Costs Under the Regular Method

The documentation requirements for F&A rate proposals consist of two parts. Part I provides a schedule of summary data on the institution's F&A cost pools and their allocations, and the proposed F&A rates. For illustration, an example of a completed Part I is included. Part II describes the standard documentation to be submitted with the institution's F&A rate proposal.

Part I: Summary Data Elements for F&A Rate Proposal—Schedule A

Name of Institution:

Organization Number: (Federal Use Only)

Address:

a. Cognizant Federal Agency Rate Setting:_ Audit:_

b. Type of Institution Private ( ) Public/State ( )

c. Fiscal Year ____

d. Institution Population (FTE)

Students:_

Faculty:_

Staff:__

e. Status of Disclosure Statement

Required to Submit (Y/N)? __

Due Dates: Initial: __ Revised: __

Date Submitted __

Approved ( )Yes ( ) No Date: __

f. Most Current F&A Rates (i.e., final, predetermined, fixed) (Last three fiscal years)

Type of rate | Fiscal year covered | Date of rate agreement | On-campus instruction | On-campus organized Research | On-campus OSA* | Off-campus instruction | Off-campus organized research | Off-campus OSA*
(*OSA= Other Sponsored Activities)

g. Base year costs associated with new buildings placed into service within the last five years (i.e., base year and four preceding years) by major functions proposed (in thousands).

| Instruction | Organized research | OSA
Building Depreciation or Use Allowance |  |  |
Interest Expense |  |  |
Operation and Maintenance |  |  |

h. Dollar amounts by major functions proposed—Base Year (in thousands)

| Instruction | Organized research | OSA
Salaries & Wages/Fringes |  |  |
Non-labor Costs |  |  |
Modified Total Direct Costs |  |  |

i. Percentage of cost pool dollars allocated to major functions proposed—Base Year

| Instruction | Organized research | OSA | Other*
Building Depreciation or Use Allowance |  |  |  |
Equipment Depreciation or Use Allowance |  |  |  |
Interest Expense |  |  |  |
Operation and Maintenance |  |  |  |
Library |  |  |  |
* “Other” includes other major institutional functions for which F&A rates are computed such as primate centers or applied physics laboratories.

j. Proposed methodology for library costs: Standard Method: _Special Study:

k. Procedure for claiming fringe benefit costs: Specific Identification:_

Negotiated Rate:_

Other (see attached)_

Part I: Summary Data Elements for F&A Rate Proposal—Schedule B

—Name of Institution:

—Historical Base Year:

Base Year Rate Calculation Summary by Major Function (dollars in thousands)
| Instruction | Organized research | OSA
FACILITIES GROUP
Depreciation/Use Allowance
• Buildings | $ | $ | $ %
• Equipment | $ % | $ | $ %
• Land Improvements | $ % | $ % | $ %
Interest Expense | $ % | $ % | $ %
Operation & Maintenance | $ % | $ % | $ %
Utility Cost Adjustment | $ % | $ % | $ %
Library | $ % | $ % | $ %
ADMINISTRATIVE GROUP
General | $ % | $ % | $ %
Departmental | $ % | $ % | $ %
Sponsored Projects | $ % | $ % | $%
Student Services | $ % | $ % | $ %
Adjustment for 26% Limitation | % | % | %
MODIFIED TOTAL DIRECT COST AND F&A RATES
On-Campus | $ % | $ % | $%
Off-Campus | $ % | $ %
Other | $ % | $ % | $%
Total MTDC | $ | $ | $
COMPOSITION OF RATE BASE
Federal Awards
On-Campus (negotiated rates) | $ | $ | $
Off-Campus (negotiated rates) | $ | $ | $
Research Training Awards | $ | $ | $
Other Awards (not based on negotiated rates) | $ | $ | $
Non-Federal Sources | $ | $ | $
Total | $ | $ | $
MISCELLANEOUS STATISTICS
Cost Sharing in Rate Base | $ | $ | $
Reassignable Square Feet (ASF) by Major Function | $ | $ | $
Percent of ASF Financed (1) |  |  |

Note (1): Ratio of ASF subject to financing divided by total ASF. If 20% of a building's acquisition cost is financed, then 20% of the ASF is considered ASF financed. This information is not required if the institution does not claim any interest costs on its F&A proposal.

Part I—Example: Summary Data Elements for F&A Rate Proposal—Schedule A

Name of Institution: University of XYZ

Organization Number: (Federal, Use Only)

Address: 100 Main St., Somewhere, ST 12345

a. Cognizant Federal Agency Rate Setting: HHS Audit: HHS

b. Type of Institution Private ( ) Public/State (X)

c. Fiscal Year July 1, 1997-June 30, 1998.

d. Institution Population (FTE)

Students: 12,000

Faculty: 1,759

Staff: 2,798

e. Status of Disclosure Statement

Required to Submit (Y/N)? Yes

Due Dates: Initial: 06/30/98 Revised: 12/31/98

Date Submitted: 12/10/98

Approved (X) Yes ( ) No

Date: 06/13/ 99

f. Most Current F&A Rates (i.e., final, predetermined, fixed) (Last three fiscal years)

Type of rate | Fiscal year covered | Date of rate agreement | On-campus instruction | On-campus organized research | On-Campus OSA* | Off-campus instruction | Off-Campus organized research | Off-campus OSA*
Pred | 1999 | 09/15/96 | 78.0% | 52.5% | 38.3% | 26.0% | 26.0% | 20.0%
Pred | 1998 | 09/15/96 | 78.0% | 52.5% | 35.0% | 26.0% | 26.0% | 20.0%
Pred | 1977 | 09/15/96 | 76.0% | 53.0% | 35.0% | 26.0% | 26.0% | 20.0%
(*OSA=Other Sponsored Activities)

g. Base year costs associated with new buildings placed into service within the last five years (i.e., base year and four preceding years) by major functions proposed (in thousands).

| Instruction | Organized research | OSA
Building Depreciation or Use Allowance | 729 | 2,639 | 0
Interest Expense | 0 | 1,794 | 0
Operation and Maintenance | 1,280 | 4,632 | 0

h. Dollar amounts by major functions proposed—Base Year (in thousands)

| Instruction | Organized research | OSA
Salaries & Wages/Fringes | 36,400 | 63,750 | 11,050
Non-labor Costs | 19,600 | 21,250 | 1,950
Modified Total Direct Costs | 56,000 | 85,000 | 13,000

i. Percentage of cost pool dollars allocated to major functions proposed—Base Year

| Instruction | Organized research | OSA | Other*
Building Depreciation or Use Allowance | 40.0% | 44.0% | 2.5% | 7.0%
Equipment Depreciation or Use Allowance | 34.2% | 27.7% | 2.1% | 10.0%
Interest Expense | 29.9% | 32.4% | 1.9% | 0.0%
Operation and Maintenance | 32.8% | 35.6% | 2.1% | 15.0%
Library | 75.3% | 10.9% | 0.9% | 0.0%
* “Other” includes other major institutional functions for which F&A rates are computed such as primate centers or applied physics laboratories.

j. Proposed methodology for library costs:

Standard Method: Yes

Special Study: No

k. Procedure for claiming fringe benefit costs:

Specific Identification: No

Negotiated Rate: Yes

Other (see attached)——

Part I—Example: Summary Data Elements for F&A Rate Proposal—Schedule B

Name of Institution: University of XYZ

Historical Base Year: 07/01/97 to 06/30/98

Base Year Rate Calculation Summary by Major Function (dollars in thousands)
| Instruction: ($) | Instruction: (%) | Organized Research: ($) | Organized Research: (%) | OSA: ($) | OSA: (%)
FACILITIES GROUP
Depreciation/Use Allowance
_Buildings | 4,861 | 9.6 | 5,278 | 6.9 | 306 | 2.6
_Equipment | 3,082 | 6.1 | 2,496 | 3.3 | 194 | 1.7
_Land Improvements | 1,992 | 4.0 | 133 | 0.2 | 17 | 0.1
Interest Expense | 1,944 | 3.9 | 2,111 | 2.8 | 122 | 1.0
Operation & Maintenance | 8,532 | 16.9 | 9,264 | 12.1 | 536 | 4.6
Utility Cost Adjustment | 0 | 0.0 | 994 | 1.3 | 0 | 0.0
Library | 7,910 | 15.7 | 1,146 | 1.5 | 96 | 0.8
ADMINISTRATIVE GROUP
General | 1,535 | 2.7 | 2,330 | 2.7 | 356 | 2.7
Departmental | 11,991 | 21.4 | 17,239 | 20.3 | 2,797 | 21.5
Sponsored Projects | 89 | 0.2 | 2,693 | 3.2 | 412 | 3.2
Student Services | 4,166 | 7.4 | 0 | 0.0 | 0 | 0.0
Adjustment for 26 Limitation |  | −5.7 |  | −0.2 |  | −1.4
MODIFIED TOTAL DIRECT COST AND F&A RATES
On-Campus | 50,400 | 82.2 | 76,500 | 54.2 | 11,700 | 36.8
Off-Campus | 5,600 | 26.0 | 8,500 | 26.0 | 1,300 | 26.0 | Other | 0 | 0.0 | 0 | 0.0 | 0 | 0.0
Total MTDC | 56,000 |  | 85,000 |  | 13,000
COMPOSITION OF RATE BASE
Federal Awards
On-Campus (negotiated rates) | 1,000 |  | 46,000 |  | 900 |
Off-Campus (negotiated rates) | 120 |  | 5,000 |  | 400 |
Research Training Awards | 0 |  | 0 |  | 0 |
Other Awards (not based on negotiated rates) | 1,680 |  | 8,500 |  | 2,600 |
Non-Federal Sources | 53,200 |  | 25,500 |  | 9,100 |
Total | 56,000 |  | 85,000 |  | 13,000
MISCELLANEOUS STATISTICS
Cost Sharing in Rate Base | (10,000) |  | 10,000 |  | 0 |
Assignable Square Feet (ASF) by Major Function | 83,611 ASF |  | 90,778 ASF |  | 5,256 ASF |
Percent of ASF Financed (1) | 7.0 |  | 20.0 |  | 30.0 |

Note (1): Ratio of ASF subject to financing divided by total ASF. If 20 of a building's acquisition cost is financed, then 20 of the ASF is considered ASF financed. This information is not required if the institution does not claim any interest costs on its F&A rate proposal.

Part II

Introduction

This Part contains the standard documentation requirements that are needed by your cognizant agency to perform a review of your institution's F&A rate proposal. This documentation supports the development of proposed rates shown in Part I and will be submitted with your F&A rate proposal.

This listing contains minimum documentation requirements.

Additional documentation may be needed by your cognizant agency before completing a proposal review.

If there are any questions about these requirements, please contact your cognizant agency.

Documentation requirements would be cross-referenced to appropriate schedule(s) within the submitted F&A rate proposal.

General Information

Reference:

__ 1. Copy of audited financial statements including any affiliated organizations. The statements must be reconciled to the F&A base year cost calculation. Copy of most recently issued Circular A-133 audit reports

__ 2. Copy of relevant data supporting the financial statement, including a reconciliation schedule for each cost pool and rate base in the F&A base year cost calculation. A reconciliation schedule will show each reclassification and adjustment to the financial statements to arrive at the cost pools and rate bases in F&A base year cost calculation. Each reclassification and adjustment must be explained in notes to the reconciliation schedule

__ 3. Cost step-down schedule showing allocation of each F&A cost pool to the Major Functions and other cost pools

__ 4. Explanation for each proposed organized research rate component which exceeds the prior negotiated rate component by 10%

__ 5. Schedules clearly detailing composition and allocation base(s) of each F&A cost pool in base year cost calculation. If the institution has filed a Disclosure Statement (DS-2) submission, specific references (rather than narrative descriptions) from the DS-2 may be used

__ 6. Narrative description of composition of each F&A cost pool and allocation methodology. If the institution has filed a DS-2 submission, specific references (rather than narrative descriptions) from the DS-2 may be used

__ 7. Narrative description of changes in accounting or cost allocation methods made since the institution's last F&A submission. If the institution has filed a DS-2 submission, specific references (rather than narrative descriptions) from the DS-2 may be used

__ 8. Copy of reports on the conduct and results of special studies performed under Section E.2.d, when applicable

__ 9. Copy of the following:

(a) The Certificate of F&A Costs

(b) Lobbying Certification

(c) Description of procedures used to ensure that awards issued by the Federal Government do not subsidize the F&A costs allocable to awards made by non-Federal sources (e.g., industry, foreign governments)

(d) Assurance Certification—for those institutions listed on Exhibit A—concerning disposition of Federal reimbursements associated with claims for depreciation/use allowances

(e) Assurance statement that institution is in compliance with Federal awarding agency limitations on compensation (e.g., NIH salary limitation, executive compensation)

__ 10. If applicable, reconciliation of carry-forward amounts from prior years used in the current proposal

__ 11. Transmittal letter stipulating the type(s) of rates proposed, the fiscal year(s) covered by the proposal and the base year used

Rate Proposal Summary by Major Function

__ 1. Summary of F&A base year rates calculated by Major Function and special rates (e.g., vessel rates) if applicable by component. These would be grouped by Administrative Components and Facilities Components. Total base year calculated rates would be disclosed, as well as allowable rates after the 26 percent limitation on Administrative Components

__ 2. A breakout of Modified Total Direct Cost (MTDC) rate base figures for each major function (and special rates, if applicable) by:

(a) On-Campus and Off-Campus amounts

(b) Federal awards

—Based on Negotiated Rates—On-Campus

—Based on Negotiated Rates—Off-Campus

—Research Training Awards

—Other Awards (not based on negotiated rates)

(c) Non-Federal Sources

__ 3. Miscellaneous Statistics including:

(a) Cost Sharing in the Rate Base

(b) Assignable Square Feet (ASF) by Major Function

(c) Percentage of ASF which is financed (by Major Function)

(d) A breakout of MTDC by Direct Salaries and Wages/ fringe benefits and non labor costs by major functions

__ 4. Future rate adjustments, if necessary, related to material changes since the base year. A clear description of the justification for each of the following:

(a) Changes by cost pool by year

(b) Changes in MTDC base by year

(c) Changes in F&A rates for future years

__ 5. Summary of future F&A rates, if necessary, by Major Function and special rates (e.g., vessel rates) which lists each administrative and facilities component by year.

Building Use Allowance and/or Depreciation

__ 1. Reconciliation of building cost used to compute use allowance and/or depreciation with the financial statements. If depreciation is claimed in the F&A proposal and disclosed on the financial statements, provide a reconciliation of depreciation amounts with the financial statements.

Note: If an institution's financial statements do not disclose depreciation expense (e.g., those subject to GASB), a reconciliation of claimed depreciation expense to the financial statements is not possible.

__ 2. A schedule showing amount by building of use allowance and/or depreciation distributed to all functions

__ 3. If a method different from the standard allocation method, described in section F.2.b, was used, describe method. Provide justification for its use and a schedule of allocation. If the institution has filed a DS-2 submission, claimed allocation methodology may be referenced to specific section of the DS-2

__ 4. If depreciation is claimed, describe what useful lives by group and component have been used

Equipment Use Allowances and/or Depreciation

__ 1. Reconciliation of equipment cost used to compute use allowance and/or depreciation with the financial statements. If depreciation is claimed in the F&A proposal and disclosed on the financial statements, provide a reconciliation of depreciation amounts with the financial statements.

Note: If an institution's financial statements do not disclose depreciation expense (e.g., those subject to GASB), a reconciliation of claimed depreciation expense to the financial statements is not possible.

__ 2. A schedule showing amount by building of use allowance and/or depreciation distributed to all functions

__ 3. If a method different from the standard allocation method, described in section F.2.b, was used, describe the method. Provide a justification for its use and a schedule of allocation. If the institution has filed a DS-2 submission, claimed allocation methodology may be referenced to specific section of the DS-2

__ 4. If depreciation is claimed, describe what useful lives by asset class and component have been used

Interest

__ 1. Reconciliation of interest cost used in the F&A base year calculation to the financial statements

__ 2. A schedule showing amount of interest cost assigned to each building and a distribution to all benefitting functions within each building for each proposed “Major Function”

Space Survey

__ 1. A summary schedule of square footage by school, department, building and function

__ 2. The same schedule should then be sorted by school, building, department, and function

__ 3. Copies of space inventory instructions, forms, and definitions

Operation and Maintenance (O&M)

__ 1. A summary schedule of each major activity (or subpool) in O&M cost pool. It must show the costs by S&W/fringe benefits and all non-labor cost categories

__ 2. A schedule showing amount of O&M costs distributed to all functions

General Administration (G&A)

__ 1. A summary schedule of each activity (or subpool) in the G&A cost pool

__ 2. A schedule of costs in the modified total costs (MTC) allocation base

__ 3. If a method different from the standard MTC allocation method was used, describe the method. Provide a justification for its use and a schedule of allocation. If the institution filed a DS-2 submission, claimed allocation methodology may be referenced to specific section of the DS-2

Departmental Administration (DA)

__ 1. Schedules of the DA summary by school, department and allocated to Major Functions by department

__ 2. Schedule identifying costs by S&W/fringe benefits and non-labor costs by department for the following functions:

(a) Direct (Major Functions)

—Instruction

—Organized Research

—Other Sponsored Activities

—Other

(b) Departmental Administration (excluding Deans)

(c) Dean's office

(d) Other, as appropriate

S&W/fringe benefits shall be further identified as follows:

(a) Faculty and other professional

(b) Administrative (e.g., business officers, accountants, budget analysts, budget officers)

(c) Technicians (e.g., lab technicians, glass washers)

(d) Secretaries and clerical

__ 3. Complete description of allocation method, bases and allocation sequences (e.g., direct charge equivalent, 3.6 percent allowance). If a method different from the standard MTC allocation method was used, describe the method. Provide a justification for its use and a schedule of allocation. If the institution filed a DS-2 submission, claimed allocation methodology may be referenced to specific section of the DS-2

__ 4. Show a detailed example (i.e., illustration of your Direct Charge Equivalent (DCE) methodology) of the allocation process used for one department which has Instruction and Organized Research functions from each of the following schools: Medicine, Arts & Sciences and Engineering, as applicable

Sponsored Projects Administration (SPA)

__ 1. A summary schedule for each activity (or subpool) included in SPA cost pool

__ 2. A schedule of the sponsored projects direct costs in the MTC allocation base

__ 3. If a method different from the standard sponsored projects MTC allocation method was used, describe method. Provide justification for its use and a schedule of allocation. If the institution filed a DS-2 submission, claimed allocation methodology may be referenced to specific section of the DS-2

Library

__ 1. A summary schedule for each activity included in library cost pool. It would show costs by salaries and wages, books, periodicals, and all other non-labor cost categories

__ 2. Schedule listing all credits to library costs

__ 3. A schedule of Full Time Equivalents (FTE) and salaries and wages in the bases used to allocate library costs to users of library services

__ 4. If the standard allocation methodology was not used, describe the alternative method and provide justification for its use. Provide schedules of allocation statistics by function. If school filed a DS-2 submission, claimed allocation methodology may be referenced to specific section of the DS-2

Student Services

__ 1. If the proposed allocation base(s) differs from the stipulated standard allocation methodology provide:

(a) Justification for use of a nonstandard allocation methodology;

(b) Description of allocation procedure; and

(c) Statistical data to support proposed distribution process

If the institution filed a DS-2 submission, claimed allocation methodology may be referenced to specific section of DS-2.

[FR Doc. 00-11540 Filed 5-8-00; 8:45 am]

BILLING CODE 3110-01-P